ENVIRONMENTAL PROTECTION AGENCY

40 CFR Part 52

[EPA-R04-OAR-2022-0630; FRL-11582-01-R4]

Air Plan Approval; Georgia; Vehicle Inspection and Maintenance Program

AGENCY: Environmental Protection Agency (EPA).

ACTION: Proposed rule.

SUMMARY: The Environmental Protection Agency (EPA) is proposing to approve State Implementation Plan (SIP) revisions submitted by the State of Georgia through the Georgia Department of Natural Resources (GA DNR), Environmental Protection Division (EPD), on June 8, 2022, and on June 6, 2023. Georgia's June 8, 2022, SIP revision (hereinafter referred to as Georgia's 2022 I/M SIP revision) removes obsolete references and provisions; updates the State's inspection and maintenance (I/M) requirements; updates terminology, in part to reflect advances in test and vehicle technology; and makes other minor changes. The June 6, 2023, SIP revision (hereinafter referred to as Georgia's 2023 I/M SIP revision) removes outdated terminology; updates with new terminology; removes one requirement; and makes other minor changes to Georgia's enhanced I/M program. EPA is proposing to approve these changes pursuant to the Clean Air Act (CAA or Act).

DATES: Comments must be received on or before January 22, 2024.

ADDRESSES: Submit your comments, identified by Docket ID No. EPA-R04-OAR-2022-0630 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www.epa.gov/dockets/commenting-epa-dockets.

FOR FURTHER INFORMATION CONTACT: Weston Freund, Air Regulatory Management Section, Air Planning and Implementation Branch, Air and Radiation Division, U.S. Environmental Protection Agency, Region 4, 61 Forsyth Street SW, Atlanta, Georgia 30303-8960. The telephone number is (404) 562-8773. Mr. Freund can also be reached via electronic mail at freund.weston@epa.gov.

SUPPLEMENTARY INFORMATION:

I. Background

Below provides the background for EPA's proposed actions on Georgia's 2022 and 2023 I/M SIP revisions that were submitted to EPA by GA DNR on June 8, 2022, and on June 6, 2023, respectively.

The CAA requires areas that are designated as moderate, serious, severe, or extreme ozone nonattainment areas to establish motor vehicle I/M programs to ensure regular monitoring of gasoline fueled motor vehicle emissions. See CAA sections 182(b)(4), (c)(3). The required monitoring is performed by periodic emissions testing of vehicles. See CAA sections 182(a)(2)(B), (c)(3). This emissions testing ensures that vehicles are well-maintained and operating as designed and that they do not exceed established vehicle pollutant limits. A basic I/M program is required for moderate ozone nonattainment areas, and an enhanced I/M program is required for serious, severe, or extreme ozone nonattainment areas.

In 1991, EPA classified a 13-county area in and around the Atlanta, Georgia, metropolitan area as a serious ozone nonattainment area for the 1979 1-hour ozone national ambient air quality standards (NAAQS or standard), triggering the requirement for the State to establish an enhanced I/M program for the area.¹ In 1996, Georgia submitted its enhanced I/M program to EPA for incorporation into the SIP. EPA granted interim approval of the State's program in 1997 and full approval in 2000. See 62 FR 42916 (August 11, 1997) and 65 FR 4133 (January 26, 2000), respectively. Despite that approval, the 13-county area failed to attain the 1-hour ozone NAAQS by the November 15, 1999, the CAA deadline for serious ozone nonattainment areas. EPA issued a final rulemaking action on September 26, 2003 (68 FR 55469), to reclassify the area to severe ozone nonattainment. Subsequently, this area attained the 1-hour ozone NAAQS and EPA redesignated the area to attainment. See 70 FR 34660 (June 15, 2005). In addition, on April 30, 2004, EPA issued a final rulemaking action (69 FR 23951) to revoke the 1979 1-hour ozone NAAQS, effective June 15, 2005.

¹ On November 6, 1991, EPA designated and classified the following counties in and around the Atlanta, Georgia, metropolitan area as a serious ozone nonattainment area for the 1-hour ozone NAAQS: Cherokee, Clayton, Cobb, Coweta, DeKalb, Douglas, Fayette, Forsyth, Fulton, Gwinnett, Henry, Paulding, and Rockdale. See 56 FR 56694.

On July 18, 1997 (62 FR 38856), EPA established an 8-hour ozone NAAQS and subsequently designated areas. On April 30, 2004 (69 FR 23858), EPA designated a 20-county area in and around metropolitan Atlanta as a marginal ozone nonattainment area for the 1997 8-hour ozone NAAQS.² EPA reclassified this area as a moderate ozone nonattainment area on March 6, 2008 (73 FR 12013), because the area failed to attain the 1997 8-hour ozone NAAQS by the required attainment date of June 15, 2007. Subsequently, the area attained the 1997 8-hour ozone standard, and on December 2, 2013 (78 FR 72040), EPA redesignated the area to attainment.

² The nonattainment area for the 1997 8-hour ozone standard consisted of the following counties: Barrow, Bartow, Carroll, Cherokee, Clayton, Cobb, Coweta, DeKalb, Douglas, Fayette, Forsyth, Fulton, Gwinnett, Hall, Henry, Newton, Paulding, Rockdale, Spalding, and Walton.

On March 12, 2008, EPA revised the 8-hour ozone NAAQS. See 73 FR 16436 (March 27, 2008). EPA designated a 15-county area in and around metropolitan Atlanta as a marginal ozone nonattainment area for the 2008 8-hour ozone NAAQS on April 30, 2012 (effective July 20, 2012).³ See 77 FR 30088 (May 21, 2012). EPA reclassified these counties as a moderate ozone nonattainment area on May 4, 2016 (effective June 3, 2016), because the area failed to attain the 2008 8-hour ozone NAAQS by the required attainment date of July 20, 2015. See 81 FR 26697 (May 4, 2016). Subsequently, the area attained the 2008 8-hour ozone standard and EPA redesignated the area to attainment. See 82 FR 25523 (June 2, 2017).

³ The nonattainment area for the 2008 8-hour ozone standard consisted of the following counties: Bartow, Cherokee, Clayton, Cobb, Coweta, DeKalb, Douglas, Fayette, Forsyth, Fulton, Gwinnett, Henry, Newton, Paulding, and Rockdale.

On October 1, 2015, EPA again revised the 8-hour ozone NAAQS. See 80 FR 65292 (October 26, 2015). EPA designated a 7-county area in and around metropolitan Atlanta as a marginal ozone nonattainment area for the 2015 8-hour ozone NAAQS on April 30, 2018 (effective August 3, 2018).⁴ See 83 FR 25776 (June 4, 2018). Subsequently, the area attained the 2015 8-hour ozone standard and EPA redesignated the area to attainment. See 87 FR 62733 (October 17, 2022).

⁴ The nonattainment area for the 2015 8-hour ozone standard consists of the following counties: Bartow, Clayton, Cobb, DeKalb, Fulton, Gwinnett, and Henry.

EPA is proposing to approve changes to the I/M regulations in Chapter 391-3-20—Enhanced Inspection and Maintenance of Georgia's SIP that were provided to EPA through a cover letter dated June 8, 2022. Specifically, Georgia's 2022 I/M SIP revision seeks to update Rule 391-3-20-.01—Definitions; Rule 391-3-20-.04—Emission Inspection Procedures; Rule 391-3-20-05—Emission Standards; Rule 391-3-20-.09—Inspection Station Requirements; Rule 391-3-20-.10—Certificates of Authorization; Rule 391-3-20-.11—Inspector Qualifications and Certification; Rule 391-3-20-.13—Certificate of Emission Inspection; Rule 391-3-20-.15—Repairs and Retests; Rule 391-3-20-.17—Waivers; and Rule 391-3-20-.22—Enforcement.

Further, EPA is proposing to approve additional changes to Georgia's I/M regulations that were provided to EPA through a cover letter dated June 6, 2023. Specifically, Georgia's 2023 I/M SIP revision seeks to update Rule 391-3-20-.01, Definitions; Rule 391-3-20-.03, Covered Vehicles; Exemptions; Rule 391-3-20-.04, Emission Inspection Procedures; Rule 391-3-20-.05, Emission Standards; and Rule 391-3-20-.11, Inspector Qualifications and Certification.

Collectively, the proposed changes remove obsolete references and provisions, update Georgia's I/M requirements, update terminology, correct punctuation, and make other minor changes to Georgia's SIP-approved I/M requirements. EPA is proposing to find that the changes submitted by Georgia will not interfere with any applicable requirement concerning attainment and reasonable further progress, or any other applicable CAA requirement.⁵ Thus, EPA is proposing to approve the changes to Georgia's SIP as submitted in Georgia's 2022 and 2023 I/M SIP revisions. Section III, below, provides a summary of these changes and EPA's analysis.

⁵ See CAA section 110(l).

II. EPA's Analysis of Georgia's Submittals

A. Rule 391-3-20-.01, “Definitions”

Both Georgia's 2022 and 2023 I/M SIP revisions update Rule 391-3-20-.01, Definitions. Georgia's 2022 I/M SIP revision makes a minor change to one definition. Georgia's 2023 I/M SIP revision makes further changes to Rule 391-3-20-.01 by adding a definition, removing two definitions, revising one definition, making minor grammatical changes in three definitions, and then renumbering the section to reflect these changes.

Georgia's 2022 I/M SIP revision updates the definition for “Emission Inspection” in Rule 391-3-20-.01. The revision changes the order of tests and inspections listed in the definition. Specifically, the “on-board diagnostic system check” test is moved to the beginning of listed tests and inspections, and the “exhaust emissions test” is moved to the end of the list. The purpose of this change is to highlight the more current widespread use of OBD as the primary method used for emission tests. Since this minor update does not change any applicable limits or requirements, it will have no impact on emissions and is consistent with CAA requirements.

Georgia's 2023 I/M SIP revision further updates Rule 391-3-20-.01 by adding a definition, removing two definitions, revising one definition, making minor grammatical changes in three definitions, and then renumbering the section to reflect these changes. First, the revision adds a definition for “Biometrics.” The revision adds this definition to reflect another method of identification that can be used by an inspector to initiate an inspection. Specifically, inspectors will now be able to use their own biometric login in lieu of using their personal access code to perform and record any inspections. Second, the revision removes the definitions “Grandfathered Vehicle” and “Gray Market Vehicle” since both are encompassed in the newly revised definition of “Non-conforming Vehicle.” The new definition for “Non-conforming Vehicle” applies to those vehicles that have not obtained an EPA certification or ones that have an emissions control component that is obsolete according to the manufacturer. Further, the revision to this definition adds that vehicles that qualify as non-conforming “would be subject to an alternative tail pipe emissions standard based upon its model year to obtain a vehicle registration in the Georgia covered counties.” Since neither grandfathered vehicles nor gray market vehicles have EPA certification, both types of vehicles fall under the new definition for “Non-conforming Vehicle,” so removal of “Grandfathered Vehicle” and “Gray Market Vehicle” from the SIP does not result in any changes. Subsequent subparagraphs are being renumbered to reflect these changes. Third, the revision makes stylistic changes to the definitions of “Light Duty Truck,” and “Light Duty Vehicle,” by adding commas to numbers to aid with their readability. Finally, the revision corrects a grammatical mistake in the definition for “Time Extension” by removing an unnecessary period. Given the nature of these changes, they have no impact on emissions and are consistent with CAA requirements.

B. Rule 391-3-20-.03, “Covered Vehicles; Exemptions”

Georgia's 2023 I/M SIP revision updates Rule 391-3-20-.03, Covered Vehicles; Exemptions, by removing outdated terminology, removing one requirement, making one stylistic change, and one minor grammatical change. First, the revision updates paragraph 391-3-20-.03(8) by removing the first sentence which states that “Provisions for grandfathered vehicles, i.e., gray market vehicles, kit cars, hot rods, and non-conforming vehicles are described in this subparagraph” and by removing the term “gray market” from the second sentence. Neither kit cars nor hot rod vehicles have EPA certification, so both vehicles fall under the new definition for “Non-conforming Vehicle” in addition to those vehicles that were previously considered grandfathered or gray market. Second, the revision removes the last sentence of the paragraph which states that kit cars and hot rods which are newly registered in the counties subject to I/M after December 31, 1998, are not eligible for special inspection standards. According to GA EPD, it has granted non-conforming status to 91 kit cars and hot rods since 2007.⁶ As a result of the proposed change to the last sentence of 391-3-20-.03(8), these 91 vehicles would now be eligible for a special inspection standard. Further, GA EPD stated that 3.3 million emission inspection tests were performed in 2022 alone. Given this proportionality, to the extent that kit cars and hot rods are now eligible for a special inspection standard, EPA does not believe that this change would interfere with any applicable requirement concerning attainment or any other applicable CAA requirement. Third, the revision makes a stylistic change to subparagraph 391-3-20-.03(1)(b), adding a comma to ease with the readability of a number. Finally, the revision updates paragraph 391-3-20-.03(3) with a grammatical correction by removing a comma. Given the nature of these changes, EPA is proposing to find that they are consistent with CAA requirements, including 110(l).

⁶ See email from Anna Aponte, GA EPD, to Josue Ortiz Borrero, EPA Region 4 (November 16, 2023), available in the docket for this proposed rulemaking.

C. Rule 391-3-20-.04, “Emission Inspection Procedures”

Both Georgia's 2022 and 2023 I/M SIP revisions update Rule 391-3-20-.04, Emission Inspection Procedures. Georgia's 2022 I/M SIP revision removes obsolete language related to an outdated testing requirement. Georgia's 2023 I/M SIP revision further changes Rule 391-3-20-.04 by updating terminology.

Georgia's 2022 I/M SIP revision updates Rule 391-3-20-.04, Emission Inspection Procedures, by removing obsolete language related to an outdated testing requirement. Specifically, the revision updates paragraph 391-3-20-.04(1) by removing a requirement that an emission inspector check whether a vehicle has “tires with cords exposed” prior to inspecting it. The outdated Acceleration Simulation Mode (ASM) inspection test was performed on a dynamometer, so the inspector was required to look for any tires with cords exposed because they could pose a safety risk during the test. The ASM test was removed as an inspection test from the Georgia SIP in 2022 because all vehicles covered under the Georgia I/M program could be inspected using the OBD inspection or TSI test instead. See 87 FR 41080 (July 11, 2022). Since the ASM test is no longer part of Georgia's I/M program, this change has no impact on emissions and is consistent with CAA requirements.

Georgia's 2023 I/M SIP revision further updates Rule 391-3-20-.04, Emission Inspection Procedures, by updating terminology in a subparagraph. Specifically, the term “non-conforming” replaces the term “grandfathered” to describe vehicles subject to the emission inspection procedures in subparagraph 391-3-20-.04(2)(c) and its corresponding subsections. This subparagraph and its corresponding subsections outline emission inspection procedures for non-conforming vehicles. As mentioned in subsection III.A of this document, the definition for “Grandfathered Vehicle” has been removed from the enhanced I/M rules, and instead, the newly revised definition for “Non-conforming Vehicle” covers these vehicles as well as others. Given the nature of these changes, they have no impact on emissions and are consistent with CAA requirements.

D. Rule 391-3-20-.05, “Emission Standards”

Both Georgia's 2022 and 2023 I/M SIP revisions update Rule 391-3-20-.05, Emission Standards. Georgia's 2022 I/M SIP revision makes one language change and reorders subparagraphs to reflect technological advances in testing. Georgia's 2023 I/M SIP revision further changes Rule 391-3-20-.05 by updating terminology to be consistent with new definitions the EPA is acting on in this notice.

Georgia's 2022 I/M SIP revision updates Rule 391-3-20-.04, Emission Inspection Procedures, by making one language change and reordering subparagraphs to reflect the more widespread use of OBD testing. First, the revision updates paragraph 391-3-20-.05(2) to change the order of a list of inspection tests a vehicle subject to the I/M program must pass. Specifically, the OBD test is moved to the beginning of listed inspection tests, and the exhaust emissions test is moved to the end of the list. This change reflects the current, wider-spread use of the OBD test for inspection of motor vehicles as compared to exhaust emissions tests. Second, the revision changes the order of the exhaust emission testing requirements and OBD testing requirements, which were previously outlined in subparagraphs 391-3-20-.05(2)(b) and 391-3-20.05(2)(d), respectively. The revision switches the order of these testing requirements so now the OBD testing requirements are housed in subparagraph 391-3-20-.05(2)(b) and the requirements for exhaust emissions tests are in subparagraph 391-3-20-.05(2)(d). This change has also been made to reflect the wider-spread use of OBD tests as compared to exhaust emissions tests for motor vehicles subject to the Georgia I/M program. Given the nature of these changes, they have no impact on emissions and are consistent with CAA requirements.

Georgia's 2023 I/M SIP revision updates Rule 391-3-20-.05, Emission Standards, by removing references to hot rods in one subparagraph, and references to gray market vehicles and grandfathered vehicles in another subparagraph, replacing them all with references to “non-conforming” vehicles. First, in subparagraph 391-3-20-.05(2)(a)4., the revision replaces the term “hot rod” with “non-conforming” in describing vehicles that shall pass the tampering inspection if either the original vehicle or the replacement engine was equipped with a catalytic converter and a catalytic converter has been installed. Since the new definition for non-conforming vehicle covers hot rods as well as certain other vehicle types, the applicability of this subparagraph expands, thus making it more stringent. Second, in subparagraph 391-3-20-.05(2)(d)2., references to “gray market” vehicles and “grandfathered” vehicles are removed. The result of this change is that the new rule describes when a vehicle defined as non-conforming is considered to have passed an exhaust emissions test. Since the new definition for non-conforming covers all gray market vehicles and grandfathered vehicles, the applicability of the subparagraph has not changed. Given the nature of these changes, they have no impact on emissions and are consistent with CAA requirements.

E. Rule 391-3-20-.09, “Inspection Station Requirements”

Georgia's 2022 I/M SIP revision updates Rule 391-3-20-.09, Inspection Station Requirements, by removing outdated language, making one stylistic change, removing unnecessary language, and adding clarifying language. First, the revision removes outdated language from subparagraph 391-3-20-.09(2)(g) that requires the air intakes on both the Georgia Analyzer System (GAS) and the vehicle being inspected to be exposed to the same ambient temperature, pressure, and humidity conditions throughout an inspection. The outdated ASM test was sensitive to changes in temperature, pressure, and humidity during inspection, whereas the OBD and TSI tests are not. Since the ASM test is no longer part of the Georgia I/M program, the removal of this language will not impact emissions. In subparagraph 391-3-20-.09(2)(i), the revision makes some minor changes to several of its corresponding subsections. First, in subsection 391-3-20-.09(2)(i)(3) of the rule, the revision makes a stylistic, word choice change by replacing the phrase “tie into” with “connect to” in describing a secure internet connection that should connect GAS to each Vehicle Information Database (VID). Next, in subsection 391-3-20-.09(2)(i)(7) of the rule, the phrase “capable of performing OBD system checks” is deleted because all inspection stations are now required to be capable of performing OBD system checks, making the language redundant. Previously, Georgia had stations that that only tested older cars which did not have OBD systems, so this language was necessary. Finally, in subsection 391-3-20-.09(2)(i)(8), language is added indicating that a station owner will receive the currently applicable version of the Emissions Inspector Certification Training Program Manual during the inspector certification. Given the nature of these changes, they have no impact on emissions and are consistent with CAA requirements.

F. Rule 391-3-20-.10, “Certificates of Authorization”

Georgia's 2022 I/M SIP revision updates Rule 391-3-20-.10, Certificates of Authorization, by adding a new requirement. Specifically, the added language now requires station owners who intend to renew their Certificate of Authorization to operate an inspection station to apply for renewal at least 30 days prior to the expiration date of the existing certification. Previously, the language said that station owners “may apply” but this is now updated to say that they “must apply” at least 30 days prior to the expiration of the existing certificate. Additionally, the revision clarifies that this subparagraph requiring a renewal application refers to “station owners intending to renew their certificate.” This is simply clarifying language as the subparagraph already applied to owners who were seeking renewal of their Certificate of Authorization. Given the nature of these changes, they have no impact on emissions and are consistent with CAA requirements.

G. Rule 391-3-20-.11, “Inspector Qualifications and Certification”

Both Georgia's 2022 and 2023 I/M SIP revisions update Rule 391-3-20-.11, Inspector Qualifications and Certification. Georgia's 2022 I/M SIP revision adds clarifying language and makes some minor word choice changes. Georgia's 2023 I/M SIP revision further changes Rule 391-3-20-.11 by updating language to reflect advances in technology, to include some new requirements, and to make one minor grammatical change.

Georgia's 2022 I/M SIP revision updates Rule 391-3-20-.11, Inspector Qualifications and Certification, to add clarifying language in several places and to make some word choice changes. First, in subparagraph 391-3-20-.11(5)(a), the revision adds language to clarify that the requirement for a complete application for renewal to be submitted at least 30 calendar days prior to the expiration of the existing certificate applies to inspectors “intending to renew their certificate.” This new language does not add any new requirements, but better describes who the requirement applies to. Another clarifying change is made in paragraph 391-3-20-.11(6) to specify that inspectors must have the picture on their GA EPD-issued ID clearly visible on the inspector's upper body area when performing an emissions inspection. Previously, the language indicated only that the ID itself must be visible on the inspector's upper body area, so this change simply clarifies that the inspector's picture must be visible in this location. Finally, one last clarifying change is made to paragraph 391-3-20-.11(9), where the revision adds the word “unauthorized” to clarify who may not use a certified emission inspector's personal access code to perform any part of an emissions inspection. Previously, the paragraph read that no person should use the access code; however, this was not the purpose of the rule as the certified emission inspector should always be able to use their personal access code to perform any part of an emission inspection. This clarifying change eliminates the confusion previously caused by this paragraph. Finally, the revision makes several word choice changes. First, in several parts of the rule, the revision replaces the word “card” with “badge,” in describing the picture ID. Second, the revision removes the word “location” from the phrase “visible location” in paragraph 391-3-20-.11(6). The phrase required that an emission inspector have their ID badge clearly visible on the inspector's upper body area, so the removal of the word “location” does not change the meaning of the requirement. This removal is a minor change that constitutes a change in word choice. Given the nature of these changes, they have no impact on emissions and are consistent with CAA requirements.

Georgia's 2023 I/M SIP revision further updates Rule 391-3-20-.11 by adding language to reflect the use of biometric identification to initiate an inspection, to include some new requirements, and to make one minor grammatical change. First, paragraph 391-3-20-.11(8) is revised to require inspectors to notify the Management Contractor of a change to telephone or email address contact information after applying for and receiving a Certificate of Authorization. Previously, inspectors only needed to notify the Management Contractor of a change of address. Second, the revision revises paragraphs 391-3-20-.11(9) and .11(10) to reflect that, in addition to using a personal access code, inspectors may also use a biometric login to perform parts of the inspection. Further, the revision forbids inspectors from divulging or authorizing the use of their own biometric login to any other person. This change reflects the new use of biometric logins during inspections described in section III.A of this notice. Finally, the revision makes one grammatical change to paragraph 391-3-20-.11(7) by removing a comma. Given the nature of these changes, they have no impact on emissions and are consistent with CAA requirements.

H. Rule 391-3-20-.13, “Certificate of Emission Inspection”

Georgia's 2022 I/M SIP revision updates Rule 391-3-20-.13, Certificate of Emission Inspection, with two minor changes. First, the revision revises subparagraph 391-3-20-.13(1)(i), which specifies that inspection results for applicable inspection tests must be included in a Certificate of Emission Inspection. The change rearranges the order of applicable inspection tests to place OBD testing first. This change is made to reflect the wider-spread use of the OBD test as compared to exhaust emission tests. The second minor change updates subparagraph 391-3-20-.13(2)(c), which requires that inspectors provide vehicle owners who have failed an emission inspection with the current, quarterly RepairWatch Public Report. This report identifies repair facilities. The change adds the phrase “access to” at the beginning of the subparagraph to specify that the inspector must provide owners of vehicles that have failed inspection emission tests with access to the current, quarterly reports. This change is simply clarifying in nature. Given the nature of these changes, they have no impact on emissions and are consistent with CAA requirements.

I. Rule 391-3-20-.15, “Repairs and Retests”

Georgia's 2022 I/M SIP revision amends Rule 391-3-20-.15, Repairs and Retests, by removing one outdated requirement. Specifically, in paragraph 391-3-20-.15(4), “NOX” is deleted from the list of pollutants for which a vehicle must pass an exhaust test upon reinspection. Usable NOX emission information only came with an ASM test since NOX was released from the motor vehicle when it was under load (i.e., while using the dynamometer). Although a motor vehicle still may still release NOX emissions during a TSI test, the emissions are much lower since it is performed at idle. This NOX information is unusable to make any determination as to whether a vehicle is adequately preventing the release of NOX. Since the ASM test was removed in a previous SIP revision, and because none of the applicable exhaust emissions tests would provide useable NOX emission information, this requirement is obsolete. Since the ASM test is not part of Georgia's I/M program, the changes to Rule 391-3-20-.15 have no impact on emissions and are consistent with CAA requirements.

J. Rule 391-3-20-.17, “Waivers”

Georgia's 2022 I/M SIP revision updates Rule 391-3-20-.17, Waivers, by deleting obsolete language in one subparagraph and updating language in another. First, the revision updates subparagraph 391-3-20-.17(2)(c), by deleting the phrase “on preprinted repair forms” to describe how receipts for parts and labor must be submitted for repair waivers. Receipts must still be submitted, but they no longer have to be submitted on preprinted repair forms. This change does not remove any substantive requirement because receipts must still be submitted, and the minimum repair form entries have not changed. Second, the revision updates subparagraph 391-3-20-.17(2)(f) by adding clarifying language specifying that repairs for a waiver shall “address the OBD failure” or produce a reduction in “tailpipe” emissions for the pollutant that failed the previous test. Since the applicable tests required under the Georgia I/M program are either the OBD inspection test or a tailpipe emissions test (i.e., TSI tailpipe emissions test), the added language clarifies what repairs should address in the event of a failure of an applicable emissions test. Given the nature of these changes, they have no impact on emissions and are consistent with CAA requirements.

K. Rule 391-3-20-.22, “Enforcement”

Georgia's 2022 I/M SIP revision updates Rule 391-3-20-.22, Enforcement, with one minor word choice change. Specifically, in subparagraph 391-3-20-.22(2)(b), the revision replaces the word “card” with “badge” to describe the picture ID that certified emissions inspectors use. This better describes the form of ID and adds no new requirements. Given the nature of this update, it will have no impact on emissions and is consistent with CAA requirements.

III. Incorporation by Reference

In this document, EPA is proposing to include in a final EPA rule regulatory text that includes incorporation by reference. In accordance with the requirements of 40 CFR 51.5, and as explained in sections I and II of this preamble, EPA is proposing to incorporate by reference Georgia Rules 391-3-20-.09—Inspection Station Requirements; 391-3-20-.10—Certificates of Authorization; 391-3-20-.13—Certificate of Emission Inspection; 391-3-20-.15—Repairs and Retests; 391-3-20-.17—Waivers; and 391-3-20-.22— Enforcement, all of which have a state-effective date of April 19, 2022, into the Georgia SIP. Further, EPA is proposing to incorporate by reference Georgia Rules 391-3-20-.01, Definitions; Rule 391-3-20-.03, Covered Vehicles; Exemptions; Rule 391-3-20-.04, Emission Inspection Procedures; Rule 391-3-20-.05, Emission Standards; and Rule 391-3-20-.11, Inspector Qualifications and Certification, all of which have a state-effective date of March 21, 2023, into the Georgia SIP. EPA has made, and will continue to make, these materials generally available through www.regulations.gov and at the EPA Region 4 office (please contact the person identified in the FOR FURTHER INFORMATION CONTACT section of this preamble for more information).

IV. Proposed Actions

EPA is proposing to approve changes to Georgia's SIP-approved I/M rules as provided in Georgia's June 8, 2022, and June 6, 2023, SIP revisions. These SIP revisions include changes to 391-3-20-.01—Definitions; 391-3-20-.03, Covered Vehicles; Exemptions; 391-3-20-.04—Emission Inspection Procedures; 391-3-20-.05—Emission Standards; 391-3-20-.09—Inspection Station Requirements; 391-3-20-.10—Certificates of Authorization; 391-3-20-.11—Inspector Qualifications and Certification; 391-3-20-.13—Certificate of Emission Inspection; 391-3-20-.15—Repairs and Retests; 391-3-20-.17—Waivers; and 391-3-20-.22—Enforcement. EPA has made the preliminary determination that these changes are consistent with CAA requirements. Thus, EPA is proposing to these changes to Georgia's SIP.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, these actions merely propose to approve state law as meeting Federal requirements and does not impose additional requirements beyond those imposed by state law. For that reason, these proposed actions:

• Are not significant regulatory actions subject to review by the Office of Management and Budget under Executive Orders 12866 (58 FR 51735, October 4, 1993) and 13563 (88 FR 21879, April 11, 2023);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have federalism implications as specified in Executive Order 13132 (64 FR 43255, August 10, 1999);

• Are not subject to Executive Order 13045 (62 FR 19885, April 23, 1997) because they approve a state program;

• Are not significant regulatory actions subject to Executive Order 13211 (66 FR 28355, May 22, 2001); and

• Are not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

EPD did not evaluate EJ considerations as part of its SIP submittals; the CAA and applicable implementing regulations neither prohibit nor require such an evaluation. EPA did not perform an EJ analysis and did not consider EJ in these proposed actions. Due to the nature of the actions being proposed here, these proposed actions are expected to have a neutral to positive impact on the air quality of the affected area. Consideration of EJ is not required as part of these proposed actions, and there is no information in the record inconsistent with the stated goal of E.O. 12898 of achieving EJ for people of color, low-income populations, and Indigenous peoples.

List of Subjects in 40 CFR Part 52

Environmental protection, Air pollution control, Carbon monoxide, Incorporation by reference, Nitrogen dioxide, Ozone, Particulate matter, Reporting and recordkeeping requirements, Sulfur oxides, Volatile organic compounds.

Authority: 42 U.S.C. 7401 et seq.

Dated: December 14, 2023.
Jeaneanne Gettle,
Acting Regional Administrator, Region 4.

[FR Doc. 2023-28105 Filed 12-20-23; 8:45 am]

BILLING CODE 6560-50-P